DEPARTMENT OF DEFENSE

Office of the Secretary

Senior Executive Service Performance Review Board

AGENCY: Department of Defense Office of Inspector General.

ACTION: Notice.

SUMMARY: This notice announces the appointment of the members of the Senior Executive Service (SES) Performance Review Board (PRB) for the Department of Defense Office of Inspector General (DoD OIG), as required by 5 U.S.C. 4314(c)(4). The PRB provides fair and impartial review of SES performance appraisals and makes recommendations regarding performance ratings and performance awards to the Inspector General.

DATES: Effective Date: September 23, 2008.

FOR FURTHER INFORMATION CONTACT: Ms. Phyllis Hughes, Director, Human Capital Advisory Services, Administration and Management, DoD OIG, 400 Army Navy Drive, Arlington, VA 22202, (703) 602-4516.

SUPPLEMENTARY INFORMATION: In accordance with 5 U.S.C. 4314(c)(4), the following executives are appointed to the DoD OIG, PRB:

Karen Ellis, Assistant Inspector General for Investigations, Department of Agriculture.

Marla Freedman, Assistant Inspector General for Audit, Department of Treasury.

William Maharay, Deputy Inspector General for Audit Services, Department of Energy.

Lisa Martin, General Counsel, United States Postal Service, Office of Inspector General.

Andrew Patchan, Assistant Inspector General for Audits and Attestations, Federal Reserve Board.

Peter Usowski, Assistant Inspector General for Investigations, Central Intelligence Agency.

Dated: September 22, 2008.
Patricia L. Toppings,
OSD Federal Register Liaison Officer, Department of Defense.

[FR Doc. E8-22867 Filed 9-29-08; 8:45 am]

BILLING CODE 5001-06-P